NUCLEAR REGULATORY COMMISSION

[Docket Nos. 50-0348 and 50-0364; NRC-2015-0015]

Southern Nuclear Operating Company, Inc.; Joseph M. Farley Nuclear Plant, Units 1 and 2

AGENCY: Nuclear Regulatory Commission.

ACTION: License amendment application; withdrawal by applicant.

SUMMARY: The U.S. Nuclear Regulatory Commission (NRC) has granted the request of the Southern Nuclear Operating Company, Inc. (SNC—the licensee) to withdraw its license amendment application dated November 24, 2014, as supplemented on September 28, 2015; March 3, 2016; and July 25, 2016, for proposed amendments to Renewed Facility Operating License Nos. NPF 2 and NPF 8 for the Joseph M. Farley Nuclear Plant, Units 1 and 2, respectively, located in Houston County, Alabama. The application contained 24 requests. Twenty-three of those requests were addressed in NRC letter dated August 3, 2016. The amendments adopted previously approved Technical Specifications Task Force Travelers and made two changes not associated with Travelers. A request to incorporate TSTF-312-A, Revision 1, “Administratively Control Containment Penetrations,” has been withdrawn by SNC in a letter dated October 17, 2016.

DATES: The license amendment was withdrawn by the licensee on October 17, 2016.

ADDRESSES: Please refer to Docket ID NRC-2015-0015 when contacting the NRC about the availability of information regarding this document. You may obtain publicly-available information related to this document using any of the following methods:

• Federal Rulemaking Web site: Go to http://www.regulations.gov and search for Docket ID NRC-2015-0015. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Shawn Williams, Office of Nuclear Reactor Regulation, U.S. Nuclear Regulatory Commission, Washington, DC 20555-0001; telephone: 301-415-1009, email: Shawn.Williams@nrc.gov.

SUPPLEMENTARY INFORMATION: The NRC has granted the request of the licensee to withdraw its November 24, 2014, license amendment application (ADAMS Package Accession No. ML14335A689), as supplemented on September 28, 2015 (ADAMS Accession No. ML15271A223); March 3, 2016 (ADAMS Accession No. ML16063A516); and July 25, 2016 (ADAMS Accession Package No. ML16214A040), for proposed amendments to Renewed Facility Operating License Nos. NPF 2 and NPF 8 for the Joseph M. Farley Nuclear Plant, Units 1 and 2, respectively, located in Houston County, Alabama.

The licensee requested to change the Technical Specifications related to TSTF-312-A, Revision 1, “Administratively Control Containment Penetrations.”

The proposed amendment was noticed in the Federal Register on February 3, 2015 (80 FR 5804). By letter dated October 17, 2016 (ADAMS Accession No. ML16291A520), the licensee withdrew its license amendment application.

Dated at Rockville, Maryland, this 20th day of October 2016.
For the Nuclear Regulatory Commission.
Michael T. Markley,
Chief, Plant Licensing Branch II-1, Division of Operating Reactor Licensing, Office of Nuclear Reactor Regulation.

[FR Doc. 2016-25987 Filed 10-26-16; 8:45 am]

BILLING CODE 7590-01-P